DEPARTMENT OF TRANSPORTATION

Pipeline and Hazardous Materials Safety Administration

Hazardous Materials: Notice of Application for Special Permits

AGENCY: Office of Hazardous Materials Safety, Pipeline and Hazardous Materials Safety Administration, (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 2, 2015.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on July 20, 2015.
Ryan Paquet,
Director, Approvals and Permits Division.

Application No. | Docket No. | Applicant | Regulation(s) affected | Nature of special permits thereof
NEW SPECIAL PERMITS
16504-N |  | iDrink Products Inc., Ann Arbor, MI | 49 CFR 171.2(k), 172.202(a)(5) (iii)(B), Subpart H of Part 172 | To authorize the transportation in commerce of certain used DOT 3AL cylinders that contain carbon dioxide, but not necessarily in an amount qualifying as hazardous material. (modes 1, 2)
16511-N |  | Air Products and Chemicals, Inc., Allentown, PA | 49 CFR 173.301(f), 173.301(g) | To authorize the transportation in commerce of hydrogen chloride, anhydrous in certain DOT specification cylinders without pressure relief devices. (modes 1, 3)
16514-N |  | Best Buy Co., Inc., Richfield, MN | 49 CFR 172.301(c), 173.185(c)(1)(iii), 173.185(c)(3)(i) | To authorize the transportation in commerce of packages containing lithium cells and batteries without the markings required in §§ 173.185(c)(1)(iii) and 173.185 (c)(3)(i) when contained in overpacks and transported via motor vehicle between Best Buy Co., Inc. distribution centers and retail stores. (mode 1)
16516-N |  | Exosent Engineering, LLC, College Station, TX | 49 CFR 178.315 | To authorize the manufacture, mark, sale and use of non-DOT specification cargo tanks manufactured to ASME Section XII stamped with a “T” Stamp instead of the “U” stamp (mode 1)
16518-N |  | Midwest Helicopter Airways, Inc., Willowbrook, IL | 49 CFR 172.200, 172.301(c), 173.27(b)(3), 175.30(a)(1), 175.33, Part 178 | To authorize the transportation in commerce of certain hazardous materials by 14 CFR Part 133 Rotorcraft External Load Operations transporting hazardous materials attached to or suspended from an aircraft and 14 CFR Part 135 operations transporting hazardous materials on board an aircraft. Such transportation is in support of operations whenthe use of cranes or other lifting devices is impracticable or unavailable or when aircraft is the only means of transportation, without being subject to certain hazard communication requirements, quantity limitations, packaging and loading and storage requirements. (mode 4)
NEW SPECIAL PERMITS
16520-N |  | Southern Helicopters, Inc., Sunshine, LA | 49 CFR 172.101 Hazardous Materials Table Column (9B), 172.204(c)(3), 172.200, 172.301(c), 173.27(b)(2), 173327(b)(3), 175.30(a)(1) | To authorize the transportation in commerce of certain hazardous materials by 14 CFR part 133 rotorcraft External Load Operations transporting hazardous materials attached to or suspended from an aircraft. Such transportation occurs when aircraft is the only means of transportation, without being subject to certain hazard communication requirements, quantity limitations, packaging and loading and storage requirements. (mode 4)
16521-N |  | Sentry Equipment Corp., Oconomowoc, WI | 49 CFR 173.201, 173.301(f), 173.302a, 173.304a | To authorize the manufacture, mark, sale and use of non-DOT specification stainless steel cylinders conforming in part to DOT specification 3A. (modes 1, 2, 3, 4)
NEW SPECIAL PERMITS
16523-N |  | FIBA Technologies, Inc., Littleton, MA | 49 CFR 173.301(f), 173.301(g), 173.312(a)(2) | To authorize the manufacture, mark, sale and use of certain DOT specification cylinders, UN pressure receptacles, and Multi-Element Gas Containers (MEGCs) containing anhydrous hydrogen chloride without pressure relief devices. (modes 1, 2, 3)
16524-N |  | Quantum Fuel Systems Technologies Worldwide, Inc., Lake Forest, CA | 49 CFR 173.302a | To authorize the manufacture, mark, sale and use of non-DOT specification fully wrapped fiber reinforced composite gas cylinders that meet ISO 11119-3:2013, except as specified. (modes 1, 2, 3)
16525-N |  | Air Products and Chemicals, Inc., Allentown, PA | 49 CFR 173.187, 173.212, 173.240, 173.242, IMDG Code 6.2.1.1.2 | To authorize the transportation in commerce of certain Division 4.1 and 4.2 hazardous materials in non-DOT specification cylinders. (modes 1, 3)

[FR Doc. 2015-18718 Filed 7-31-15; 8:45 am]

BILLING CODE 4909-60-M